DEPARTMENT OF THE INTERIOR

Bureau of Land Management

[CO-200-1430-EU; COC-44105, COC-57166, COC-35470]

Notice of Realty Action

AGENCY: Bureau of Land Management, Interior.

ACTION: Notice of Realty Action.

SUMMARY: COC-44105—Recreation and Public Purpose Classification. The following public lands are classified as suitable for lease under the Recreation and Public Purposes Act (R&PP) of July 14, 1926, as amended, 43 U.S.C. 869 et. seq., and the regulations thereunder 43 CFR 2740 and 2912. The public lands involved are segregated from the public land laws including the general mining laws, except for the R&PP Act. The purpose of the classification is to segregate the DeWeese Reservoir recreation site managed by the Colorado Division of Wildlife in conjunction with the DeWeese State Wildlife Area, from conflicting applications and proposals.

Sixth Principal Meridian, Custer County, Colorado

T. 21 S., R. 72 W.,

Sec. 20, SE¼SE¼

Sec. 21, W½SW¼

Sec. 28, NW¼NW¼

Sec. 29, Lots 1, 2

Consisting of approximately 241.44 acres.

COC-57166—The following lands were segregated from all forms of appropriation under the public land laws, including the general mining laws, except for lease or conveyance under the Recreation and Public Purposes Act, on February 29, 1996. Upon publication of this notice in the Federal Register, this segregation, as it affects these lands only, will be amended to allow for exchange under Section 206 of the Federal Land Policy and Management Act (FLPMA), as amended by the Federal Land Exchange Facilitation Act (FLEFA) or sale under section 203 of FLPMA. This amendment affects lands in the area of the City of Longmont's water transmission line and will allow for conveyance to the City of Longmont.

Sixth Principal Meridian, Boulder County, Colorado

T. 3 N., R. 71 W.,

Sec. 11: S½NE¼SE¼SW¼, W½NW¼SE¼SW¼, SE¼NW¼SE¼SW¼, N½N½SW¼SE¼SW¼, NE¼NE¼SE¼SE¼SW¼, SW¼SW¼SE¼SE¼

Sec. 13: S½NE¼ of lot 1, NW¼ of lot 1, S½N½NE¼ of lot 1

Sec. 14: N½N½ of lot 1, S½NE¼ of lot 1

Consisting of approximately 49.85 acres.

COC-35470—The following lands were segregated from all forms of appropriation under the public land laws, including the general mining laws, except for lease or conveyance under the Recreation and Public Purposes Act, on September 6, 1985. Upon publication of this notice in the Federal Register, this segregation, as it affects these lands only, will be amended to allow for exchange to the City and County of Denver acting by and through its Board of Water Commissioners under Section 206 of the Federal Land Policy and Management Act (FLPMA), as amended by the Federal Land Exchange Facilitation Act (FLEFA).

Sixth Principal Meridian, Boulder County, Colorado

T. 1 S., R. 71 W.,

Tracts 49, 54, 60, 61, 65, 143, 144

Consisting of approximately 283.72 acres.

The lands are not needed for Federal purposes. These actions are consistent with current BLM land use planning and would be in the public interest.

DATES: Interested parties may submit comments on this action on or before August 3, 2000. Please reference the applicable serial number in all correspondence. Objections will be reviewed and this realty action may be sustained, vacated, or modified. Unless vacated or modified, this realty action will become final.

ADDRESSES: Royal Gorge Field Office Manager, Bureau of Land Management, 3170 E. Main St., Canon City, CO 81212.

FOR FURTHER INFORMATION CONTACT: COC-44105, David Hallock, Realty Specialist BLM, 719-269-8536; COC-57166, Jan Fackrell, Realty Specialist BLM, 719-269-8525; COC-35470, Stu Parker, Realty Specialist BLM, 719-269-8546; Royal Gorge Field Office, 3170 E. Main St., Canon City, CO 81212.

Levi D. Deike,
Associate Field Office Office Manager.

[FR Doc. 00-15808 Filed 6-21-00; 8:45 am]

BILLING CODE 4310-JB-U